OFFICE OF THE UNITED STATES TRADE REPRESENTATIVE

Request for Comments Concerning Free Trade Agreement With the Republic of Korea

AGENCY: Office of the United States Trade Representative.

ACTION: Notice and request for comments.

SUMMARY: The United States Trade Representative (USTR) is assessing how and to what extent the free trade agreement (FTA) between the United States and the Republic of Korea (Korea) signed on June 30, 2007 makes progress in achieving the applicable purposes, policies, priorities, and objectives of the Bipartisan Trade Promotion Authority Act of 2002 (“TPA Act”) (19 U.S.C. 3801 note) as set out in section 2102 of the TPA Act and carries out the provisions of the May 10, 2007 Congressional-Executive Agreement on Trade Policy, http://www.ustr.gov/sites/default/files/uploads/factsheets/2007/asset_upload_file127_11319.pdf (“May 10 Agreement”). The FTA has not yet entered into effect. The interagency Trade Policy Staff Committee (TPSC) seeks public comment to assist the USTR in its assessment.

DATES: Written comments are due by noon, September 15, 2009.

ADDRESSES: Comments should be submitted electronically via the Internet at http://www.regulations.gov. For alternatives to on-line submissions please contact Gloria Blue, Executive Secretary, Trade Policy Staff Committee, at (202) 395-3475.

FOR FURTHER INFORMATION CONTACT: For procedural questions concerning written comments, contact Gloria Blue, Executive Secretary, Trade Policy Staff Committee, at (202) 395-3475. All other questions should be directed to Bryant Trick, Deputy Assistant U.S. Trade Representative for Korea, at (202) 395-5070.

SUPPLEMENTARY INFORMATION:

On February 2, 2006, after consulting with relevant Congressional committees and the Congressional Oversight Group, the USTR notified Congress of the President's intent to initiate free trade agreement negotiations with Korea, identified specific objectives for the negotiations, and solicited comment from interested persons on matters relevant to the FTA. 71 FR 6820. On April 1, 2007, the President notified Congress of his intent to enter into an FTA with Korea and representatives of the two governments signed the FTA on June 30, 2007. The full text of the FTA is available at http://www.ustr.gov/trade-agreements/free-trade-agreements/korus-fta/final-text.

To assist the USTR in assessing how and to what extent the FTA makes progress in achieving the applicable purposes, policies, priorities, and objectives of the TPA Act as set out in Section 2102 of the TPA Act, and carries out the provisions of the May 10 Agreement, the Chairman of the TPSC invites interested persons to provide written comments on any provision or aspect of the FTA or any other matter relevant to the FTA. In particular, the TPSC seeks comments regarding:

(1) How implementation of the FTA will affect trade between Korea and the United States, in general and with respect to particular goods or services;

(2) Economic costs and benefits to U.S. workers, farmers, ranchers, businesses and consumers of removal of tariffs and non-tariff barriers affecting trade between the United States and Korea; and

(3) Any additional steps that one or both governments should take to address specific concerns regarding the FTA and the bilateral trade and investment relationship.

Interested persons may submit written comments by noon, September 15, 2009 (see requirements for submission below). Written comments should be submitted in English and must state clearly the position taken and describe with particularity the supporting rationale. Comments addressing specific aspects of the FTA should include references to relevant provisions of the signed text whenever possible (see above for a link to the FTA text). The first page of written comments must specify the subject matter, including, as applicable, the product(s) (with HTSUS numbers), service sector(s), or other subjects (such as investment, intellectual property, and/or government procurement).

Public Comment: Requirements for Submissions

To ensure the most timely and expeditious receipt and consideration of comments, USTR has arranged to accept on-line submissions via http://www.regulations.gov. To submit comments via http://www.regulations.gov, enter docket number USTR-2009-0020 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov Web site provides the option of making submissions by filling in a “General Comments” field, or by attaching a document. We expect that most submissions will be provided in an attached document. If a document is attached, it is sufficient to type “See attached” in the “General Comments” field.

Submissions in Microsoft Word (.doc) or Adobe Acrobat (.pdf) are preferred. If you use an application other than those two, please identify the application in your submission. For any comments submitted electronically containing business confidential information, the file name of the business confidential version should begin with the characters “BC”. Any page containing business confidential information must be clearly marked “BUSINESS CONFIDENTIAL” on the top of that page. If you file comments containing business confidential information you must also submit a public version of the comments. The file name of the public version should begin with the character “P”. The “BC” and “P” should be followed by the name of the person or entity submitting the comments. If you submit comments that contain no business confidential information, the file name should begin with the character “P”, followed by the name of the person or entity submitting the comments. Electronic submissions should not attach separate cover letters; rather, information that might appear in a cover letter should be included in the comments you submit. Similarly, to the extent possible, please include any exhibits, annexes, or other attachments to a submission in the same file as the submission itself and not as separate files.

We strongly urge submitters to use electronic filing. If an on-line submission is impossible, alternative arrangements must be made with Ms. Blue prior to delivery for the receipt of such submissions. Ms. Blue may be contacted at (202) 395-3475. General information concerning the Office of the United States Trade Representative may be obtained by accessing its Internet Web site (http://www.ustr.gov).

Carmen Suro-Bredie,
Chairman, Trade Policy Staff Committee.

[FR Doc. E9-17800 Filed 7-24-09; 8:45 am]

BILLING CODE 3190-W9-P